DEPARTMENT OF THE INTERIOR

Fish and Wildlife Service

Endangered Species Recovery Permit Applications

AGENCY: Fish and Wildlife Service, Interior.

ACTION: Notice of receipt of permit applications; request for comment.

SUMMARY: We invite the public to comment on the following applications to conduct certain activities with endangered species.

DATES: Comments on these permit applications must be received on or before August 29, 2007.

ADDRESSES: Written data or comments should be submitted to the U.S. Fish and Wildlife Service, Chief, Endangered Species, Ecological Services, 911 NE. 11th Avenue, Portland, Oregon 97232-4181 (telephone: 503-231-2063; fax: 503-231-6243). Please refer to the respective permit number for each application when submitting comments. All comments received, including names and addresses, will become part of the official administrative record and may be made available to the public.

FOR FURTHER INFORMATION CONTACT: Linda Belluomini, Fish and Wildlife Biologist, at the above Portland address (telephone: 503-231-2063; fax: 503-231-6243).

SUPPLEMENTARY INFORMATION: The following applicants have applied for scientific research permits to conduct certain activities with endangered species pursuant to section 10(a)(1)(A) of the Endangered Species Act (16 U.S.C. 1531 et seq.). The U.S. Fish and Wildlife Service (we) solicits review and comment from local, State, and Federal agencies, and the public on the following permit requests.

Permit No. 149046

Applicant: Chris T. Thurman, Monitcello, Mississippi.

The applicant requests a permit to purchase, in interstate commerce, one female and one male captive bred Hawaiian (=nene) goose (Branta [=Nesochen] sandvicensis) for enhancing its propagation and survival. This notification covers activities conducted by the applicant over the next 5 years.

Permit No. 149068

Applicant: Eric A. VanderWerf, Honolulu, Hawaii.

The applicant requests a permit to take (locate and monitor nests, capture, band, transmitter, collect biological samples, and release) the Oahu elepaio (Chasiempis sandwichensis ibidis) on the island of Oahu, Hawaii, take (locate and monitor nests, capture, band, collect biological samples, and release) the Newell' shearwater (Puffinus auricularis newelli) on Lehua Islet, Hawaii, and take (capture, band, collect biological samples, and release) the Hawaiian duck (Anas wyvilliana) on the islands of Kauai, Oahu, Maui, and Hawaii in the state of Hawaii in conjunction with scientific research for the purpose of enhancing their survival.

Public Review of Comments

We solicit public review and comment on each of these recovery permit applications.

Before including your address, phone number, e-mail address, or other personal identifying information in your comment, you should be aware that your entire comment—including your personal identifying information—may be made publicly available at any time. While you can ask us in your comment to withhold your personal identifying information from public review, we cannot guarantee that we will be able to do so.

Comments and materials received will be available for public inspection, by appointment, during normal business hours at the above address.

Dated: May 31, 2007.
David J. Wesley,
Acting Regional Director, Region 1, U.S. Fish and Wildlife Service.

[FR Doc. E7-14639 Filed 7-27-07; 8:45 am]

BILLING CODE 4310-55-P